DEPARTMENT OF AGRICULTURE

Submission for OMB Review; Comment Request

July 7, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Nursery Stock.

OMB Control Number: 0579-0279.

Summary of Collection: Under the Plant Protection Act (7 U.S.C. 7701 et seq.), the Secretary of Agriculture is authorized to prohibit or restrict the importation, entry, exportation, or movement in interstate commerce of plant pests and other articles to prevent the introduction of plant pests into the United States or their dissemination within the United States. The Animal and Plant Health Inspection Service (APHIS) regulations contained in “Subpart-Nursery Stock Plants, Roots, Bulbs, Seeds, and Other Plant products (§§ 319.37 through 319.37-14) restricts among other things, the importation of living plants, plant parts, seeds, and plant cuttings for planting or propagation.

Need and Use of the Information: APHIS requires that some plants or plant products be accompanied by either a phytosanitary inspection certificate with a declaration, export certificate, or a special certificate that is completed by plant health officials in the originating or transiting country. APHIS uses the information on these certificates to determine the pest condition of the shipment at the time of inspection in the foreign country. This information is used as a guide to the intensity of the inspection that APHIS must conduct when the shipment arrives. Without this information, all shipments would need to be inspected more thoroughly, thereby requiring considerably more time.

Description of Respondents: Business or other for-profit; Federal Government.

Number of Respondents: 52.

Frequency of Responses: Reporting: On occasion.

Total Burden Hours: 451.

Ruth Brown,
Departmental Information Collection Clearance Officer.

[FR Doc. 2010-16896 Filed 7-9-10; 8:45 am]

BILLING CODE 3410-34-P